DEPARTMENT OF AGRICULTURE

Submission for OMB Review; Comment Request

December 14, 2005.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this information. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Economic Research Service

Title: Generic Clearance to Conduct Formative Research for the Development of Dietary Behavior Evaluation Measures.

OMB Control Number: 0536-NEW.

Summary of Collection: The Economic Research Service (ERS) of the Department of Agriculture (USDA) has a requirement to conduct formative research to develop measures of dietary behavior associated with dietary quality that will be widely usable with the general public and with low-income and food assistance recipient populations across the United States. Nutrition has been shown to have important effects on obesity, child development, learning, lifelong health, and productivity. Poor food behaviors have been linked to four leading causes of death, reduced quality of life, increased cost of living, and premature death. While these food-related problems affect many Americans, there is a lack of reliable, valid questionnaires or other short, practical population measures to assess such import information as: nutrition-and-food-related knowledge, attitude, and behaviors; food assistance program participation and its determinants; and program satisfaction. Development of new questionnaires and related measures and assessment of their reliability and validity will require formative research. This formative research will provide information leading to standardized dietary outcome measures that can be used to assess dietary quality of the general public, low-income Americans, and food assistance recipients, and to examine the impact of USDA food assistance programs on the dietary well being of food assistance recipients.

Need and Use of the Information: ERS will collect information to develop standardized measures of dietary behavior for practical use in assessing dietary quality among the general public and among low-income population and food assistance recipient population across the United States, its change over time or with exposure to food assistance and nutrition information programs. If this information is not collected, USDA's ability to measure the impact of nutrition education efforts will be impaired.

Description of Respondents: Individuals or households.

Number of Respondents: 3,200.

Frequency of Responses: Reporting: On occasion.

Total Burden Hours: 3,400.

Ruth Brown,
Departmental Information Collection Clearance Officer.

[FR Doc. 05-24232 Filed 12-19-05; 8:45 am]

BILLING CODE 3410-18-M